DEPARTMENT OF HOMELAND SECURITY

Federal Emergency Management Agency

[Docket ID FEMA-2018-0002; Internal Agency Docket No. FEMA-B-1801]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: January 9, 2018.
Roy E. Wright,
Deputy Associate Administrator for Insurance and Mitigation, Department of Homeland Security, Federal Emergency Management Agency.

State and county | Location and case No. | Chief executive officer of community | Community map repository | Online location of letter of map revision | Date of modification | Community No.
Arizona:
Maricopa | City of Buckeye (17-09-1137P) | The Honorable Jackie A. Meck, Mayor, City of Buckeye, 530 East Monroe Avenue, Buckeye, AZ 85326 | Engineering Department, 530 East Monroe Avenue, Buckeye, AZ 85326 | https://msc.fema.gov/portal/advanceSearch | Apr. 20, 2018 | 040039
Maricopa | City of Peoria (17-09-2535P) | The Honorable Cathy Carlat, Mayor, City of Peoria, 8401 West Monroe Street, Peoria, AZ 85345 | City Hall, 8401 West Monroe Street, Peoria, AZ 85345 | https://msc.fema.gov/portal/advanceSearch | Mar. 30, 2018 | 040050
Maricopa | Unincorporated Areas of Maricopa County (17-09-2169P) | The Honorable Denny Barney, Chairman, Board of Supervisors, Maricopa County, 301 West Jefferson Street, 10th Floor, Phoenix, AZ 85003 | Flood Control District of Maricopa County, 2801 West Durango Street, Phoenix, AZ 85009 | https://msc.fema.gov/portal/advanceSearch | Apr. 20, 2018 | 040037
Mohave | City of Kingman (16-09-2824P) | The Honorable Monica Gates, Mayor, City of Kingman, 310 North 4th Street, Kingman, AZ 86401 | City Hall, 310 North 4th Street, Kingman, AZ 86401 | https://msc.fema.gov/portal/advanceSearch | Apr. 2, 2018 | 040060
Yavapai | City of Prescott (17-09-2254P) | The Honorable Greg Mengarelli, Mayor, City of Prescott, 201 South Cortez Street, Prescott, AZ 86303 | Public Works Department, 201 South Cortez Street, Prescott, AZ 86303 | https://msc.fema.gov/portal/advanceSearch | Apr. 20, 2018 | 040098
Yavapai | City of Prescott (17-09-2793P) | The Honorable Greg Mengarelli, Mayor, City of Prescott, 201 South Cortez Street, Prescott, AZ 86303 | Public Works Department, 201 South Cortez Street, Prescott, AZ 86303 | https://msc.fema.gov/portal/advanceSearch | Apr. 2, 2018 | 040098
Florida: Bay | City of Panama City Beach (17-04-6419P) | Mr. Mario Gisbert, City Manager, City of Panama City Beach, 110 South Arnold Road, Panama City Beach, FL 32413 | City Hall, 110 South Arnold Road, Panama City Beach, FL 32413 | https://msc.fema.gov/portal/advanceSearch | Mar. 29, 2018 | 120013
Idaho:
Ada | City of Boise (17-10-0818P) | The Honorable David Bieter, Mayor, City of Boise, City Hall, 150 North Capitol Boulevard, Boise, ID 83702 | Planning and Development Services, City Hall, 150 North Capitol Boulevard, Boise, ID 83702 | https://msc.fema.gov/portal/advanceSearch | Apr. 6, 2018 | 160002
Bonneville | City of Swan Valley (17-10-1626P) | The Honorable Janice Duncan, Mayor, City of Swan Valley, P.O. Box 105, Swan Valley, ID 83449 | City Building, 15 Highway 31, Swan Valley, ID 83449 | https://msc.fema.gov/portal/advanceSearch | Mar. 13, 2018 | 160154
Bonneville | Unincorporated Areas of Bonneville County (17-10-1626P) | Mr. Roger Christensen, Chairman, Bonneville County Commissioner, 605 North Capital Avenue, Idaho Falls, ID 83402 | Bonneville County Courthouse, 605 North Capital Avenue, Idaho Falls, ID 83402 | https://msc.fema.gov/portal/advanceSearch | Mar. 13, 2018 | 160027
Kansas:
Johnson | City of Olathe (17-07-1722P) | The Honorable Michael Copeland, Mayor, City of Olathe, P. O. Box 768, Olathe, KS 66051 | City Hall, Olathe Planning Office, 100 West Santa Fe Drive, Olathe, KS 66061 | https://msc.fema.gov/portal/advanceSearch | Apr. 12, 2018 | 200173
Seward | City of Liberal (17-07-1561P) | The Honorable Joe Denoyer, Mayor, City of Liberal, City Hall, 324 North Kansas Avenue, Liberal, KS 67905 | City Hall, 324 North Kansas Avenue, Liberal, KS 67905 | https://msc.fema.gov/portal/advanceSearch | Apr. 13, 2018 | 200330
Minnesota:
Dakota | City of Burnsville (17-05-5338P) | The Honorable Elizabeth Kautz, Mayor, City of Burnsville, 100 Civic Center Parkway, Burnsville, MN 55337 | City Hall, 100 Civic Center Parkway, Burnsville, MN 55337 | https://msc.fema.gov/portal/advanceSearch | Apr. 9, 2018 | 270102
Scott | City of Savage (17-05-5338P) | The Honorable Janet Williams, Mayor, City of Savage, City Hall, 6000 McColl Drive, Savage, MN 55378 | City Hall, 6000 McColl Drive, Savage, MN 55378 | https://msc.fema.gov/portal/advanceSearch | Apr. 9, 2018 | 270433
Missouri: New Madrid | Unincorporated Areas of New Madrid County (17-07-1570P) | Mr. Mark Baker, New Madrid County Commissioner, P.O. Box 68, New Madrid, MO 63869 | Courthouse Square, 450 Main Street, New Madrid, MO 63869 | https://msc.fema.gov/portal/advanceSearch | Apr. 20, 2018 | 290849
Nevada:
Clark | City of Henderson (17-09-0674P) | The Honorable Debra March, Mayor, City of Henderson, 240 South Water Street, Henderson, NV 89015 | Public Works Department, 240 South Water Street, Henderson, NV 89015 | https://msc.fema.gov/portal/advanceSearch | Mar. 27, 2018 | 320005
Clark | Unincorporated Areas of Clark County (17-09-0674P) | The Honorable Steve Sisolak, Chairman, Board of Supervisors, Clark County, 500 South Grand Central Parkway, 6th Floor, Las Vegas, NV 89106 | Clark County, Office of the Director of Public Works, 500 South Grand Central Parkway, Las Vegas, NV 89155 | https://msc.fema.gov/portal/advanceSearch | Mar. 27, 2018 | 320003
Clark | Unincorporated Areas of Clark County (17-09-2785P) | The Honorable Steve Sisolak, Chairman, Board of Supervisors, Clark County, 500 South Grand Central Parkway, 6th Floor, Las Vegas, NV 89106 | Clark County, Office of the Director of Public Works, 500 South Grand Central Parkway, Las Vegas, NV 89155 | https://msc.fema.gov/portal/advanceSearch | Apr. 9, 2018 | 320003
Oregon:
Benton | City of Philomath (17-10-1546P) | The Honorable Rocky Sloan, Mayor, City of Philomath, 980 Applegate Street, Philomath, OR 97370 | City Hall, 980 Applegate Street, Philomath, OR 97370 | https://msc.fema.gov/portal/advanceSearch | Mar. 29, 2018 | 410011
Benton | Unincorporated Areas of Benton County (17-10-1546P) | Ms. Annabelle Jaramillo, Chair, Benton County Board of Commissioners, 205 Northwest 5th Street, Corvallis, OR 97339 | Benton County Sherriff's Office, 180 Northwest 5th Street, Corvallis, OR 97333 | https://msc.fema.gov/portal/advanceSearch | Mar. 29, 2018 | 410008
Washington: King | City of North Bend (17-10-1428P) | The Honorable Kenneth G. Hearing, Mayor, City of North Bend, 211 Main Avenue North, North Bend, WA 98045 | Planning Department, 126 East 4th Street, North Bend, WA 98045 | https://msc.fema.gov/portal/advanceSearch | Apr. 13, 2018 | 530085
Wisconsin: Brown | Unincorporated Areas of Brown County (17-05-5248P) | Mr. Patrick Moynihan, Jr., Chair, Brown County, 305 East Walnut Street, Green Bay, WI 54301 | Zoning Office, 305 East Walnut Street, Green Bay, WI 54301 | https://msc.fema.gov/portal/advanceSearch | Apr. 4, 2018 | 550020

[FR Doc. 2018-01455 Filed 1-25-18; 8:45 am]

BILLING CODE 9110-12-P